DEPARTMENT OF AGRICULTURE

Submission for OMB Review; Comment Request

March 15, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number

Agricultural Marketing Service

Title: Data Collection Applicable to Cranberries Not Subject to the Cranberry Marketing Order, 7 CFR part 926.

OMB Control Number: 0581-0222.

Summary of Collection: The Code of Federal Regulations (CFR) 7 CFR part 926 was established to require producer-handlers, second-handlers, processors, brokers and importers of cranberries and cranberry products not subject to the Federal cranberry marketing order (7 CFR part 929) to report sales, acquisitions and inventory information to the Cranberry Marketing Committee (Committee) and to maintain adequate records on such activities. The establishment of the data collection, reporting and recordkeeping requirements for entities not subject to the order is required pursuant to the Agricultural Marketing Agreement Act of 1937, as amended; 7 U.S.C. 601-674, and as further amended by Public Law 106-78, 113 Stat. 1171 (Act).

Need and Use of the Information: The Committee has developed forms ICIR A-D “Importer Cranberry Inventory Report” and HPCIR A-D “Second-Handler/Processor Cranberry Inventory Report” as a convenience to persons who are required to file information with the Committee relating to sales, acquisition, and inventory information needed to effectively carry out the administration of the program. These forms require the minimum information necessary (name, address, variety imported, variety acquired, amount sold to and received by brokers, processors, and handlers, domestic/foreign sales, acquisitions, and the beginning and ending inventories of cranberries held by the importer) to effectively carry out the requirements and fulfill the intent of the Act as expressed in Part 926.

Description of Respondents: Business or other for-profit.

Number of Respondents: 6.

Frequency of Responses: Reporting.

Total Burden Hours: 1.

Agricultural Marketing Service

Title: Almonds Grown in California (7 CFR part 981).

OMB Control Number: 0581-0242.

Summary of Collection: Marketing Order No. 981 (7 CFR part 981) regulates the handling of almonds grown in California and emanates from the Agricultural Marketing Agreement Act of 1937, (Act) Secs. 1-19, 48 Stat. 31, as amended (7 U.S.C. 601-674) to provide the respondents the type of service they request, and to administer the California almond marketing order program. The board has developed forms as a means for persons to file required information with the board relating to the treatment of almonds to reduce the potential for Salmonella bacteria prior to shipment.

Need and Use of the Information: Almond handlers are required to submit annual treatment plans to the board and inspection agency to ensure such plans are complete and auditable regarding how they plan to treat their almonds to reduce the potential for Salmonella. The plan will be approved by the Board and must address specific parameters for the handler to ship almonds. The Board also gathers information from entities interested in being almond process authorities that validate technologies, to accept and further process untreated almonds and entities interested in being auditors. The information collected would be used only by authorized representatives of USDA, including the Agricultural Marketing Service, Fruit and Vegetable Programs' regional and headquarters' staff, and authorized employees and agents of the board.

Description of Respondents: Business or other for-profit; Individuals.

Number of Respondents: 175.

Frequency of Responses: Recordkeeping; Reporting: Annually; On occasion.

Total Burden Hours: 4,200.

Charlene Parker,
Departmental Information Collection Clearance Officer.

[FR Doc. 2010-6004 Filed 3-18-10; 8:45 am]

BILLING CODE 3410-02-P